DEPARTMENT OF LABOR

Office of Federal Contract Compliance Programs

41 CFR Part 60-2

RIN 1215-AB53

Affirmative Action and Nondiscrimination Obligations of Contractors and Subcontractors; Equal Opportunity Survey; Correction

AGENCY: Office of Federal Contract Compliance Programs, Labor.

ACTION: Notice of proposed rulemaking; correction; and extension of comment period.

SUMMARY: On January 20, 2006, the Office of Federal Contract Compliance Programs (OFCCP) published in the Federal Register a notice of proposed rulemaking (NPRM). The NPRM (71 FR 3373) proposes to amend the regulations implementing Executive Order 11246 by removing the current requirement for nonconstruction federal contractors to file the Equal Opportunity Survey (“EO Survey NPRM”). This document corrects the e-mail address for submitting comments on the EO Survey NPRM. Further, to ensure that all public comments are received, this document extends the comment period for the proposed rule for seven (7) days. Respondents who sent comments to the earlier e-mail address are encouraged to contact the person named below to find out if their comments were received and re-submit them to the e-mail address below if necessary.

DATES: The comment period for the EO Survey NPRM published January 20, 2006 (71 FR 3373) is extended to March 28, 2006.

FOR FURTHER INFORMATION CONTACT: James C. Pierce, Acting Director, Division of Policy, Planning, and Program Development, Office of Federal Contract Compliance Programs, 200 Constitution Avenue, NW., Room N3422, Washington, DC 20210. Telephone: (202) 693-0102 (voice) or (202) 693-1337 (TTY).

SUPPLEMENTARY INFORMATION:

Correction

Due to an upgrade in the computer system, the original e-mail address published in the proposed rule is not currently functioning and is not receiving e-mail comments. Accordingly, in FR Doc. 06-646 appearing on page 3373, in the Federal Register of Friday, January 20, 2006, the e-mail address shown, “ofccp-mail@dol.esa.gov,” is corrected to read “OFCCP-Public@dol.gov.”

Signed at Washington, DC, this 16th day of March, 2006.
Victoria A. Lipnic,
Assistant Secretary for Employment Standards.
Charles E. James, Sr.,
Deputy Assistant Secretary for Federal Contract Compliance.

[FR Doc. 06-2770 Filed 3-20-06; 8:45 am]

BILLING CODE 4510-CM-P